DEPARTMENT OF COMMERCE

International Trade Administration

Notice of Scope Rulings

AGENCY: Enforcement and Compliance, International Trade Administration, Department of Commerce.

DATES: Effective Date: August 12, 2014.

SUMMARY: The Department of Commerce (“Department”) hereby publishes a list of scope rulings and anticircumvention determinations made between April 1, 2014, and June 30, 2014, inclusive. We intend to publish future lists after the close of the next calendar quarter.

FOR FURTHER INFORMATION CONTACT: Brenda E. Waters, AD/CVD Operations, Customs Liaison Unit, Enforcement and Compliance, International Trade Administration, U.S. Department of Commerce, 14th Street and Constitution Avenue NW., Washington, DC 20230; telephone: 202-482-4735.

SUPPLEMENTARY INFORMATION:

Background

The Department's regulations provide that the Secretary will publish in the Federal Register a list of scope rulings on a quarterly basis.¹ Our most recent notification of scope rulings was published on May 29, 2014.² This current notice covers all scope rulings and anticircumvention determinations made by Enforcement and Compliance between April 1, 2014, and June 30, 2014, inclusive. Subsequent lists will follow after the close of each calendar quarter.

¹ See 19 CFR 351.225(o).

² See Notice of Scope Rulings, 79 FR 30821 (May 29, 2014).

Scope Rulings Made Between April 1, 2014 and June 30, 2014

Brazil

A-351-841: Polyethylene Terephthalate Film Sheet and Strip From Brazil

Requestor: Evertis Packaging Solutions: Ecoblock C products in thicknesses of 14 or 16 millimeters produced by Evertis Packaging Solutions are not within the scope of the antidumping order because they are amorphous polyethylene terephthalate film which lack biaxial orientation; May 2, 2104

People's Republic of China

A-570-967 and C-570-968: Aluminum Extrusions From the People's Republic of China

Requestor: N.R. Windows Inc.; NR Windows' window wall kits, composed of non-weight bearing extruded aluminum window frames, sheet aluminum, fasteners, gaskets, glazing sealants, and glass panes, are outside the scope of the order because the window wall kits contain, at the time of importation, all of the necessary parts to fully assemble a final finished good, require no further finishing or fabrication, and are assembled “as is” into a finished product and, thus, meet the exclusion criteria for finished goods kits; June 19, 2014.

A-570-967 and C-570-968: Aluminum Extrusions From the People's Republic of China

Requestor: Glenmore Industries LLC; Glenmore's trade booth kits, composed of polyester knit fabric-covered aluminum wall panels, fabric covered aluminum headers, aluminum posts (columns), and crossbeams, contain, upon importation, all of the components required and necessary to assemble complete commercial display spaces for use at trade shows, conventions, fairs and similar exhibitions and displays and, thus, constitute finished goods kits that meet the exclusion criteria of the scope; June 23, 2014.

A-570-970 and C-570-971: Multilayered Wood Flooring From the People's Republic of China

Requestor: Shenzhenshi Huanwei Woods Co., Ltd. (Huanwei); multilayered wood flooring exported by Huanwei is not within the scope of the antidumping and countervailing duty orders because Huanwei's product is composed of only two-layers—a top layer of veneer and a base layer, whereas the scope language requires the merchandise to be composed of at least two layers, or plies, of wood veneer in combination with a core; May 13, 2014.

A-570-918: Steel Wire Garment Hangers From the People's Republic of China

Requestor: Trendsformers, LLC; hanging jewelry organizers (“Hang It Jewelry Organizers”) are outside the scope of the antidumping duty order because they are manufactured and used in manners distinct from subject merchandise. Specifically, these hangers, sold in jewelry departments, are intended for use in the home to hold earrings, bracelets and necklaces. These hangers are not sold to dry cleaners, laundries, uniform rental services, or similar industrial operations; June 19, 2014.

A-570-890: Wooden Bedroom From the People's Republic of China

Requestor: Ethan Allen Operations Inc.; Marlene, Nadine, Serpentine, and Vivica chests are all covered by the scope of the antidumping duty order because of similarities with subject chests described in the scope; May 27, 2014.

Interested parties are invited to comment on the completeness of this list of completed scope and anticircumvention inquiries. Any comments should be submitted to the Deputy Assistant Secretary for AD/CVD Operations, Enforcement and Compliance, International Trade Administration, 14th Street and Constitution Avenue NW., APO/Dockets Unit, Room 1870, Washington, DC 20230.

This notice is published in accordance with 19 CFR 351.225(o).

Dated: August 6, 2014.
Christian Marsh,
Deputy Assistant Secretary for Antidumping and Countervailing Duty Operations.

[FR Doc. 2014-19057 Filed 8-11-14; 8:45 am]

BILLING CODE 3510-DS-P